DEPARTMENT OF COMMERCE

Foreign-Trade Zones Board

[Docket 68-2010]

Foreign-Trade Zone 86—Tacoma, WA Application for Reorganization Under Alternative Site Framework

An application has been submitted to the Foreign-Trade Zones (FTZ) Board (the Board) by the Port of Tacoma, grantee of FTZ 86, requesting authority to reorganize the zone under the alternative site framework (ASF) adopted by the Board (74 FR 1170, 1/12/09 (correction 74 FR 3987, 1/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on December 3, 2010.

FTZ 86 was approved by the Board on July 20, 1983 (Board Order 216, 48 FR 34794, 08/01/83) and expanded on April 3, 1985 (Board Order 292, 50 FR 15206, 04/17/85), on November 3, 1989 (Board Order 446, 54 FR 47247, 11/13/89) and on November 21, 2000 (Board Order 1131, 65 FR 76218, 12/06/00).

The current zone project includes the following sites: Site 1 (621 acres)—Port of Tacoma Complex, Tacoma; Site 2 (137 acres)—Valley South Corporate Park, 142nd Avenue East, Sumner; Site 3 (226 acres)—four port-owned parcels located at 19315 38th Avenue East (30 acres), 4630 192nd Street East (31 acres), the intersection of 192nd Street East and 54th Avenue East (31 acres) and at the intersection of 38th Avenue East and 200th Street East (134 acres), Frederickson; Site 4 (232 acres)—Fife Business Park, 5003 Pacific Highway East, Fife; Site 5 (170 acres)—Lakewood Industrial Park, 4700 100th Street Southwest, Lakewood; Site 6 (76 acres)—Sumner Corporate Park, 1800 140th Avenue East, Sumner; Site 7 (423 acres)—Cascadia Development Corporation Industrial Park, State Road 410, South Prairie; Site 10 (123 acres)—Greenwater Corporate Park, East Valley Highway and 8th Street East, Sumner; Site 11 (185 acres)—Boeing Frederickson parcel, 18001 Canyon Road East, Frederickson; Site 12 (160 acres)—J.R. & F. Randles parcel, 19209 Canyon Road East, Frederickson; Site 13 (33 acres)—Rainier Corporate Park East, 70th Avenue East and 20th Street East, Fife; and, Site 14 (89 acres)—Trans Pacific Industrial Park, 20th Street East and Port of Tacoma Road, Fife.

The grantee's proposed service area under the ASF would be Pierce County, Washington, as described in the application. If approved, the grantee would be able to serve sites throughout the service area based on companies' needs for FTZ designation. The proposed service area is within and adjacent to the Tacoma Washington Customs and Border Protection port of entry.

The applicant is requesting authority to reorganize its existing zone project to include all of the existing sites as “magnet” sites. The ASF allows for the possible exemption of one magnet site from the “sunset” time limits that generally apply to sites under the ASF, and the applicant proposes that Site 1 be so exempted. No usage-driven sites are being requested at this time. As part of the reorganization request, the applicant is also requesting that Site 13 be removed from the zone project due to changed circumstances. Because the ASF only pertains to establishing or reorganizing a general-purpose zone, the application would have no impact on FTZ 86's authorized subzones.

In accordance with the Board's regulations, Christopher Kemp of the FTZ Staff is designated examiner to evaluate and analyze the facts and information presented in the application and case record and to report findings and recommendations to the Board.

Public comment is invited from interested parties. Submissions (original and 3 copies) shall be addressed to the Board's Executive Secretary at the address below. The closing period for their receipt is February 8, 2011. Rebuttal comments in response to material submitted during the foregoing period may be submitted during the subsequent 15-day period to February 23, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Christopher Kemp at Christopher.Kemp@trade.gov or (202) 482-0862.

Dated: December 3, 2010.
Andrew McGilvray,
Executive Secretary.

[FR Doc. 2010-31104 Filed 12-9-10; 8:45 am]

BILLING CODE P